DEPARTMENT OF TRANSPORTATION

Federal Aviation Administration

First RTCA Special Committee 220/Automatic Flight Guidance and Control

AGENCY: Federal Aviation Administration (FAA), DOT.

ACTION: Notice of RTCA Special Committee 220/Automatic Flight Guidance and Control meeting.

SUMMARY: The FAA is issuing this notice to advise the public of a meeting of RTCA Special Committee 220/Automatic Flight Guidance and Control.

DATES: The meeting will be held August 26-28, 2008, from 9 a.m.-5 p.m.

ADDRESSES: The meeting will be held at RTCA, Inc., 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 220/Automatic Flight Guidance and Control meeting.

• August 26-28:

• Welcome/Introductions/Administrative Remarks, Agenda Overview

• RTCA Functional Overview

• Industry Activities Related to AFC&G—Review

• Committee Scope—Terms of Reference—Presentation, Discussion, Recommendations

• Review of Existing Regulations & Guidance

• Documents

• FARs

• Technical Standard Orders

• Advisory Circulars

• Organization of Work, Assign Tasks and Workgroups

• Presentations, Discussions, Recommendations, Assignment of Responsibilities

• Consider/Review Liaison with Other Active Committees

• Establish Dates, Location, Agenda for Next Meeting, Other Business

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on July 8, 2008.
Francisco Estrada C.,
RTCA Advisory Committee.

[FR Doc. E8-15955 Filed 7-15-08; 8:45 am]

BILLING CODE 4910-13-M